DEPARTMENT OF TRANSPORTATION

National Highway Traffic Safety Administration

49 CFR Part 545

[Docket No. NHTSA-05-21233]

RIN 2127-AJ51

Federal Motor Vehicle Theft Prevention Standard

AGENCY: National Highway Traffic Safety Administration (NHTSA), Department of Transportation (DOT).

ACTION: Final rule, correcting amendment.

SUMMARY: On May 19, 2005, the National Highway Traffic Safety Administration (NHTSA) published a final rule; response to petitions for reconsideration of a final rule published on April 6, 2004. As part of that final rule, we added a new part 545 containing the reporting requirements for the phase-in to the amendments to part 541. We inadvertently incorrectly cited some cross-references in the regulatory text of part 545. This document corrects those errors.

DATES: Effective September 17, 2007.

FOR FURTHER INFORMATION CONTACT: For technical and policy issues, you may call Deborah Mazyck, Office of International Policy, Fuel Economy and Consumer Programs, (Telephone: 202-366-0846) (Fax: 202-493-2990).

For legal issues, you may call Ed Glancy, Office of Chief Counsel (Telephone: 202-366-2992) (Fax: 202-366-3820).

SUPPLEMENTARY INFORMATION: On May 19, 2005, the agency published a final rule responding to petitions for reconsideration of an April 6, 2004, final rule extending the anti-theft parts marking requirements (part 541) to (1) All below median theft rate passenger cars and multipurpose passenger vehicles (MPVs) that have a gross vehicle weight rating (GVWR) of 6,000 pounds or less, and (2) all below median theft rate light duty trucks with a GVWR of 6,000 pounds or less and major parts that are interchangeable with a majority of the covered major parts of passenger cars or MPVs subject to the parts marking requirements. (70 FR 28843 and 69 FR 17960) As part of the May 2005 final rule, the agency changed the effective date of the April 2004 final rule to phase-in the new requirements over a two-year period. The reporting requirements for this phase-in were found in new 49 CFR part 545. This new part contained six incomplete cross-references to the parts marking requirements in 49 CFR part 541. This notice corrects those errors.

Correcting these errors will not impose or relax any additional substantive requirements or burdens on manufacturers. Therefore, NHTSA finds for good cause that any notice and opportunity for comment on these correcting amendments are not necessary.

For the reasons set out in the preamble, NHTSA is correctly amending 49 CFR part 545 as follows:

PART 545—[AMENDED]

1. The authority for part 545 continues to read as follows:

Authority: 49 U.S.C. 322, 33101, 33102, 33103, 33104, 33105; delegation of authority at 49 CFR 1.50.

2. Section 545.1 is revised to read as follows:

§ 545.1 Scope.

This part establishes requirements for manufacturers of motor vehicles to respond to NHTSA inquiries, to submit reports, and to maintain records related to the reports, concerning the number of vehicles that meet the requirements of 49 CFR part 541, and the number of vehicles that are excluded from the requirements of 49 CFR part 541 pursuant to 49 CFR 541.3(b)(2).

3. The first paragraph of § 545.4 is designated as paragraph (a) and the second paragraph of § 545.4 is designated as paragraph (b) and revised to read as follows:

§ 545.4 Response to inquiries.

(a) * * *

(b) At any time prior to August 31, 2007, each manufacturer must, upon request from the Office of Vehicle Safety Compliance, provide information identifying the vehicles (by make, model, and vehicle identification number) that are excluded from the requirements of 49 CFR part 541 pursuant to 49 CFR 541.3(b)(2).

4. Section 545.6 is amended by revising the heading, paragraph (a) introductory text, and paragraph (b)(1) to read as follows:

§ 545.6 Reporting requirements for vehicles listed in § 541.3(a)(1).

(a) General reporting requirements. Within 60 days after the end of the production year ending August 31, 2007, each manufacturer shall submit a report to the National Highway Traffic Safety Administration concerning its compliance with 49 CFR part 541 for vehicles listed in § 541.3(a)(1) that were manufactured between September 1, 2006 and August 31, 2007. Each report must—

* * * * *

(b) Report content—(1) Basis for Statement of Compliance. Each manufacturer shall provide the number of motor vehicles listed in § 541.3(a)(1) that were manufactured between September 1, 2006 and August 31, 2007 (excluding those motor vehicles that were subject to the requirements of 49 CFR part 541 before September 1, 2006).

* * * * *

5. Section 545.7 is amended by revising the heading to read as follows:

§ 545.7 Reporting requirements for vehicles listed in § 541.3(b)(2).

* * * * *

Issued on: August 10, 2007.
Stephen R. Kratzke,
Associate Administrator for Rulemaking.

[FR Doc. E7-16125 Filed 8-16-07; 8:45 am]

BILLING CODE 4910-59-P